DEPARTMENT OF TRANSPORTATION

Federal Railroad Administration

[Docket Number FRA-2020-0047]

Petition for Waiver of Compliance

Under part 211 of title 49 Code of Federal Regulations (CFR), this document provides the public notice that on June 12, 2020, the National Railroad Passenger Corporation (Amtrak) petitioned the Federal Railroad Administration (FRA) for a waiver of compliance from certain provisions of the Federal railroad safety regulations contained at 49 CFR part 238, Passenger Equipment Safety Standards. FRA assigned the petition Docket Number FRA-2020-0047.

Amtrak requests relief from the requirements of 49 CFR 238.121, Emergency communication, for a new fleet of Viewliner II sleeping cars. Each new passenger car must be equipped with an intercom system at each half end of the car that provides a means for passengers and crewmembers to communicate by voice during an emergency. Amtrak's Viewliner II cars are configured with two passenger emergency intercoms (PEIs): one located in the hallway at the car's A-end and the other inside the Americans with Disabilities Act (ADA) bedroom at the car's B-end. Amtrak states that it believes this arrangement meets the requirements for a PEI at each end of the car. However, because the PEI on the B-end of the vehicle is located inside the ADA bedroom, which is not readily accessible to all passengers on that car end, the PEI is not compliant with the regulation.

Amtrak explains it is working with Ultra-Tech Enterprises, the current PEI vendor, to develop the scope of work and cost of installation of a fully accessible PEI in each car's B-end hallway. The modification will be made as the cars are delivered, and all cars are expected to be delivered and modified within two years.

However, Amtrak wishes to place the cars into service before the modification is complete, as waiting will shorten the warranty period of the vehicles, while still incurring costs to perform periodic maintenance and delay Amtrak the opportunity to offer a new product that may attract passengers during the current economic hardship. Until the modification is complete, Amtrak proposes to install signage that will inform passengers of the PEI locations.

Amtrak also states that the current cars' configuration is similar to the configuration of the Viewliner I equipment, which has operated safely without an emergency two-way communication device, as it was built before the current regulation went into effect.

A copy of the petition, as well as any written communications concerning the petition, is available for review online at www.regulations.gov.

Interested parties are invited to participate in these proceedings by submitting written views, data, or comments. If any interested parties desire an opportunity for oral comment and a public hearing, they should notify FRA, in writing, before the end of the comment period and specify the basis for their request.

All communications concerning these proceedings should identify the appropriate docket number and may be submitted by any of the following methods:

• website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by September 10, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-16228 Filed 7-24-20; 8:45 am]

BILLING CODE 4910-06-P